ELECTION ASSISTANCE COMMISSION

Sunshine Act Meetings

AGENCY: U.S. Election Assistance Commission.

ACTION: Notice of public quarterly conference call for EAC Board of Advisors.

SUMMARY: Board of Advisors quarterly meeting (virtual).

DATES: Wednesday, January 13, 2021, 2:00 p.m.-3:00 p.m. EDT.

ADDRESSES: Virtual via Zoom link.

The Board of Advisors quarterly meeting is open to the public and will be livestreamed on the U.S. Election Assistance Commission YouTube Channel: https://www.youtube.com/channel/UCpN6i0g2rlF4ITWhwvBwwZw.

FOR FURTHER INFORMATION CONTACT: Phillip Olaya, Telephone: (202) 336-3980, Email: polaya@eac.gov.

For assistance joining the event: Contact the host, Steve Uyak at suyak@eac.gov.

SUPPLEMENTARY INFORMATION: Purpose: In accordance with the Federal Advisory Committee Act (FACA), Public Law 92-463, as amended (5 U.S.C. appendix 2), the U.S. Election Assistance Commission (EAC) Board of Advisors will conduct a virtual meeting to discuss current EAC activities.

Agenda: The Board of Advisors (BOA) will receive updates of EAC activities and Annual Meeting and BOA Committee/Sub-Committee Updates. The Board of Advisors will discuss the next Quarterly BOA Conference Call.

The full agenda will be posted in advance on the EAC website: https://www.eac.gov.

Status: Members of the public may submit relevant written statements to the Board of Advisors with respect to the meeting no later than 10:00 a.m. EDT on Wednesday, January 13, 2021. Statements may be sent via email to facaboards@eac.gov, via standard mail addressed to the U.S. Election Assistance Commission, 633 3rd Street NW, Suite 200, Washington, DC 20001, or by fax at 301-734-3108.

Amanda Joiner,
Associate Counsel, U.S. Election Assistance Commission.

[FR Doc. 2021-00318 Filed 1-6-21; 4:15 pm]

BILLING CODE P